FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than December 26, 2001.

A. Federal Reserve Bank of St. Louis (Randall C. Sumner, Vice President) 411 Locust Street, St. Louis, Missouri 63166-2034:

1. William Clayton Vandivort, Sikeston, Missouri; to retain voting shares of Security State Bancshares, Inc., Charleston, Missouri, and thereby indirectly retain voting shares of Bank of Paragould, Paragould, Arkansas, First Security State Bank of Charleston, Charleston, Missouri, and First Security State Bank of Southeast Missouri, Caruthersville, Missouri.

Board of Governors of the Federal Reserve System, December 6, 2001.
Robert deV. Frierson,
Deputy Secretary of the Board.

[FR Doc. 01-30668 Filed 12-11-01; 8:45 am]

BILLING CODE 6210-01-S